ENVIRONMENTAL PROTECTION AGENCY

[FRL-7077-6]

EPA Science Advisory Board; Notice: Particulate Matter (PM) Centers Interim Assessment Panel; Request for Nominations

ACTION: Notice.

Request for nominations to serve on the Particulate Matter (PM) Centers Interim Assessment Panel of the U. S. Environmental Protection Agency's Science Advisory Board.

SUMMARY: The U.S. Environmental Protection Agency's (EPA) Science Advisory Board (SAB) is announcing the formation of a Particulate Matter (PM) Centers Interim Assessment Panel (PMCIAP) and is soliciting nominations of qualified individuals to serve on this Panel. The SAB was established to provide independent scientific and technical advice to the EPA Administrator on Agency positions; in this case. advice on the utility of the PM Research Centers as a mechanism for supporting scientific research in PM.

Any interested person or organization may nominate qualified individuals for membership on the PMCIAP. Nominations (preferably in electronic format) should include the individual's name, occupation, position, qualifications to address the issue, and contact information (i.e., telephone number, mailing address, email, and/or Website). To be considered, all nominations must include a current resume (preferably electronic) providing information on the nominee's background, experience, and qualifications.

Background

In 1995 EPA introduced a research grants program (Science To Achieve Results (STAR)) focused on targeted, investigator-initiated, peer-review-competed grants. Subsequent experience suggested that there could be substantial benefits gained by investing some resources in larger, more coordinated grants to “research centers” that would focus the combined efforts of a group of researchers on closely related problems. The PM Centers were funded in 1999 for a five year period and thus, are in the middle of their grants. Although two and a half years of the PM Centers program is not sufficient time to evaluate fully its merits, the Agency is seeking an interim assessment of the PM centers concept that will help the Agency as it formulates its future research funding plans. It is for this purpose of providing interim advice on the effectiveness of the PM centers concept as a research mechanism that the SAB Panel is being convened.

The SAB is negotiating a specific Charge to guide the PM Centers assessment. The specific questions that constitute the Charge provide general guidance to the nominators about the technical qualifications of individuals who are being sought to carry out the work of the PMCIAP. We anticipate that the PMCIAP will contain experts who have proven knowledge of PM research issues and/or knowledge of various research mechanisms and methodologies that are relevant to the Agency's PM program. The current version of the Charge follows, although details of the Charge may change as a result of ongoing discussions between the Agency and the Panel. Updates will be posted on the SAB Website: www.epa.gov/sab.

Draft Charge

Overall Objective

To assess the value-added nature of a PM Centers research program.

Overall Charge Question

Based on progress to date, should a PM research program be undertaken beyond 2004? In which areas, to what extent, and for what reasons is a PM Centers program beneficial? Identify specific areas in which the program could be improved.

Specific Charge Questions

1. Recognizing the PM Centers program is barely at its halfway point, what important research findings (or promising investigations) have been made that would not have occurred otherwise? What unique aspect(s) of a Centers program enabled such actions to be taken?

2. To what extent has the direction or focus of research shifted as a result of the multi-disciplinary interactions within the Center (i.e., findings in one department influence researchers in another to change direction or emphasis)? To what extent have changes in research direction or emphasis been influenced by Science Advisory Committee reviews, interactions with other PM Centers, or interactions with the broader PM research community? Which factors have been most influential?

3. How successful are Centers in communicating their findings to the public and specifically, to those who directly use their research? Is it clear that the work has been supported by the PM Centers program?

4. How, if at all, does a PM research centers program facilitate agreement or consensus on protocols or procedures to enable more direct comparison of results among research institutions or centers?

5. How, if at all, does a PM research centers program leverage or maximize use of resources through sharing expensive equipment, samples, data, etc.?

6. How is the program perceived within and outside the research community? Does a research center have greater visibility, and if so, what is the impact?

Any interested person or organization may nominate qualified individuals for membership on the Panel. Nominations should include the individual's name, occupation, position, qualifications to address the issue, and contact information (i.e., telephone number, mailing address, and email and/or Website). To be considered, all nominations must include a current resume (preferably electronic), providing the nominee's background, experience, and qualifications.

Nominations should be submitted (preferably in electronic format) to Dr. Donald G. Barnes, Designated Federal Officer, EPA Science Advisory Board (1400A), U.S. Environmental Protection Agency, 1200 Pennsylvania Avenue, NW, Washington, DC 20460, telephone (202) 564-4533; FAX (202) 501-0323; e-mail at barnes.don@epa.gov no later than October 19, 2001, 2001. The Agency will not necessarily formally acknowledge or respond to nominations.

The nominations received through this solicitation will be combined with nominations obtained through other sources; e.g., the Agency, SAB members, and particular organizations. From this larger group of nominees (termed the “WIDECAST”), a smaller subset (the “NARROWCAST”) will be identified for more detailed consideration. The names of the NARROWCAST individuals, along with a short biosketch of each, will be posted on the SAB Website (www.epa.gov/sab), and public comments requested on the individual's expertise, real and perceived conflict-of-interest, and the overall balance of possible biases represented on the PMCIAP. Public reaction to the NARROWCAST candidates will be considered in the selection of the PMCIAP. Other selection criteria include the following: recognized expertise to address the Charge, ability to participate in an impartial and objective manner; and the need for balance among the members of the panelists.

PMCIAP members will be asked to attend at least one public meeting, possibly followed by a public teleconference meeting over the anticipated 3-month course of the activity. The Executive Committee (EC) of the SAB will critically review the PMCIAP's report and reach a judgement about its transmittal to the Administrator.

General Information

Additional information concerning the Science Advisory Board, its structure, function, and composition, may be found on the SAB Website (http://www.epa.gov/sab) and in the Science Advisory Board FY2000 Annual Staff Report which is available from the SAB Publications Staff at (202) 564-4533 or via fax at (202) 501-0256.

Dated: September 26, 2001.
Donald G. Barnes,
Staff Director, Science Advisory Board.

[FR Doc. 01-25413 Filed 10-9-01; 8:45 am]

BILLING CODE 6560-50-P